DEPARTMENT OF ENERGY

Federal Energy Regulatory Commission

[Docket No. RP01-222-000]

The Los Angeles Department of Water and Power; Notice of Filing

February 26, 2001.

Take notice that on February 1, 2001, the Los Angeles Department of Water and Power (LADWP) filed an emergency petition pursuant to Rule 207(a)(4) and (5) of the Commission's Rules of Practice and Procedure. The filing requests that the Commission immediately rescind the portion of Order No. 637 that removed the price cap for short-term capacity releases for service to the California border and to points of interconnection between interstate pipelines and California local distribution companies until March 31, 2001. LADWP further requests that the Commission initiate a proceeding that will allow the Commission to determine by March 31, 2001, if the removal of the price cap on short-term transactions associated with the California market is warranted.

Any person desiring to be heard or to protest said filing should file a motion to intervene or a protest with the Federal Energy Regulatory Commission, 888 First Street, NE., Washington, DC 20426, in accordance with Sections 385.214 or 385.211 of the Commission's Rules and Regulations. All such motions or protests must be filed on or before March 2, 2001. Protests will be considered by the Commission in determining the appropriate action to be taken, but will not serve to make protesters parties in the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm

David P. Boergers,
Secretary.

[FR Doc. 01-5101 Filed 3-1-01; 8:45 am]

BILLING CODE 6717-01-M